DEPARTMENT OF AGRICULTURE

Forest Service

Suction Dredging EIS—Clearwater National Forest; Clearwater National Forest, Clearwater County and Idaho County, ID

AGENCY: Forest Service, USDA.

ACTION: Notice; intent to prepare an environmental impact statement.

SUMMARY: The Forest Service will prepare an environmental impact statement (EIS) to disclose the environmental effects of proposed suction dredge mining activities in portions of Lolo Creek and Moose Creek (tributary to Kelly Creek). The proposed action would authorize issuance of permits for 29 recreational mining operations. In 2002, Clearwater National Forest biological analyses determined that the proposed suction dredging was likely to adversely affect steelhead trout in the Lolo Creek drainage and bull trout in the Moose Creek drainage.

Forest Service regulations at 36 CFR 228 subpart A sets forth rules and procedures for use of the surface of National Forest System Lands in connection with mineral operations. The regulations direct the Forest Service to prepare the appropriate level of National Environmental Policy Act (NEPA) analysis and documentation when proposed operations may significantly affect surface resources. These regulations do not allow the Forest Service to deny entry or preempt the miners' statutory right granted under the 1872 Mining Law. The 36 CFR 228 regulations include requirement for reclamation.

The purpose of this proposed action is to authorize suction dredge operations on Lolo Creek and Moose Creek with minimal adverse environmental effects, and to efficiently fulfill the requirement in 36 CFR 228.4(f) for conducting environmental analyses on mining Plans of Operations to determine reasonable measures to protect surface resources on National Forest System lands within the context of the laws. The need for the action is to facilitate efficient and timely approval of Plans of Operation for suction dredging, while minimizing or preventing adverse impacts related to or incidental to mining by imposing reasonable conditions that do not materially interfere with operations.

Preliminary issues identified by the interdisciplinary team include the effects of the proposed action on tribal treaty rights, recreation, all species within fisheries habitat (including threatened species), the adjacent riparian area, and water quality. Terms and conditions, and alternatives to the proposed action will be analyzed to address these issues and others that may surface during public scoping.

DATES: Comments concerning the scope of the analysis should be received in writing within 30 days from publication of this notice to receive timely consideration in the preparation of the draft EIS. The draft EIS is expected to be filed with the Environmental Protection Agency in September 2003. The final EIS and Record of Decision are expected to be issued in December 2003.

ADDRESSES: Send written comments to Forest Supervisor, Clearwater National Forest, ATTN: Vern Bretz, 12730 Highway 12, Orofino, Idaho 83544.

FOR FURTHER INFORMATION CONTACT: Vern Bretz at the above address or telephone (208) 476-8322, fax (208) 476-8329.

Responsible Official: The responsible official for decisions regarding this analysis is Larry J. Dawson, Clearwater National Forest Supervisor. His address is 12730 Highway 12, Orofino, Idaho, 83544. He will decide which set of terms and conditions, when included as operational procedures in suction dredge Plan of Operations, will allow for increased protection of threatened fish species, stream channel features, and water quality while still providing for the type of mining most claimants pursue on this Forest.

SUPPLEMENTARY INFORMATION: The twenty-nine suction dredge proposals being analyzed are “recreational classed” dredges with nozzle diameters of 5 inches or less and are equipped with 15 horsepower motor or less.

In 1997, steelhead trout were listed as a threatened species under the Endangered Species Act; bull trout were listed as threatened in 1998. Because of the potential significance of suction dredging in waters with threatened species, suction dredge operators are required to file a plan of operations with the Forest Service. Forest Service regulations, found in 36 CFR 228, require that each plan of operation be analyzed to determine terms and conditions necessary for protection of surface resources prior to approval of the plan. The Clearwater National Forest is also required under section 7 of the Endangered Species Act to consult with National Marine Fisheries Service (NMFS) and U.S. Fish and Wildlife Service (FWS) about any activity that may affect a listed species; in this case, the effect of suction dredging in streams and rivers with threatened steelhead trout and bull trout. NMFS and FWS 2003 Biological Opinions further state that although recreational classed suction dredges are likely to adversely affect the listed fish, dredging with small suction dredges would not jeopardize either species if several terms and conditions were adhered to. For example, the terms and conditions may include, but are not limited to:

1. A July 1 to August 15 dredge season. The timing of the dredge activity from July 1 to August 15 minimizes the likelihood of steelhead trout or bull trout being present.

2. Dredge sites will be located in areas of large substrate not preferred for spawning steelhead trout and bull trout.

3. A Forest Service fisheries biologist will inspect proposed dredge sites prior to dredging.

4. No mechanized equipment will be allowed to operate below the mean high water mark except for the dredge itself and any life support system necessary to operate the dredge.

5. Dredging shall be done in a manner so as to prevent the undercutting of stream banks.

6. Only one mining site per one hundred (100) lineal feet of stream channel shall be worked at one time.

7. Such dredges will not operate in the gravel bar areas at the tails of pools.

8. Suction dredge operators will not operate in such a way that fine sediment from the dredge discharge blankets gravel bars.

9. Dredge operators will not operate in such a way that the current is directed into the bank causing erosion or destruction of the natural form of the channel.

10. Dredging and processing of stream bank materials will not be permitted, and large woody debris cannot be moved during mining operations.

11. All petroleum products will be stored in spill proof containers at a location that minimizes the opportunity for accidental spillage.

13. Dredge operators will anchor the suction dredge to the stream bank when refueling in the water. To minimize accidental spillage, transfer no more that one-gallon of fuel at a time during refilling, and place absorbent material under the tank while refueling to catch any spillage.

14. Dredge operators will disperse all dredge piles and back-fill all dredge holes by the end of the operating season (August 15).

Public participation will be an important part of this analysis. Issues that emerge from public scoping will be used to develop additional alternatives to this proposal. Methods being used to solicit public comment include news releases, weekly radio interviews, and newsletters. A web page for this project can be accessed by logging on to: http://www.fs.fed.us/rl/clearwater

The lead agency for this project is the U.S. Forest Service. The Forest Service will consult with the Nez Perce Tribe, County, State, and Federal agencies that display an interest in the project.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519.553 (1978). Also, environmental objections that could be raised at the draft environmental impact statement stage but that are not raised until after completion of the final environmental impact statement may be waived or dismissed by the courts. City of Angoon v. Hodel, 803 F.2d 1016, 1022 9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Regulations for implementing the procedural provisions of the National Environmental Policy Act at 40 CFR 1503.3 in addressing these points.

Comments received in response to this solicitation, including names and addresses of those who comment, will be considered part of the public record on this proposed action and will be available for public inspection. Comments submitted anonymously will be accepted and considered; however, those who submit anonymous comments will not have standing to appeal the subsequent decision under 36 CFR part 215.

Dated: March 20, 2003.
Larry J. Dawson,
Forest Supervisor.

[FR Doc. 03-8176 Filed 4-3-03; 8:45 am]

BILLING CODE 3410-11-M